DEPARTMENT OF HEALTH AND HUMAN SERVICES

[Document Identifier: OS-0990-0330]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 16, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-0330-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Appellant Climate Survey.

Type of Collection: Revision.

OMB No.: 0990-0330.

Abstract: The annual OMHA Appellant Climate Survey is a survey of Medicare beneficiaries, providers, suppliers, or their representatives who participated in a hearing before an Administrative Law Judge (ALJ) from OMHA. Appellants dissatisfied with the outcome of their Level 2 Medicare appeal may request a hearing before an OMHA ALJ. The Appellant Climate Survey will be used to measure appellant satisfaction with their OMHA appeals experience, as opposed to their satisfaction with a specific ruling. OMHA was established by the Medicare Prescription Drug, Improvement, and Modernization Act (MMA) of 2003 (Pub. L. 108-173) and became operational on July 1, 2005. The MMA legislation and implementing regulations issued on March 8, 2007, instituted a number of changes in the appeals process. The MMA legislation also directed HHS to consider the feasibility of conducting hearings using telephone or video-teleconference (VTC) technologies. In carrying out this mandate, OMHA makes use of both telephone and VTC to provide appellants with a vast nationwide network Field Offices for hearings. The first 3-year administration cycle of the OMHA survey began in fiscal year (FY) 2008, a second 3-year cycle began in FY 2011, a third 3-year cycle began in FY 2014, and a fourth 3-year cycle began in FY 2018. The survey will continue to be conducted annually over a 3-year period with the next data collection cycle beginning in FY 2021. Data collection instruments and recruitment materials will be offered in English and Spanish. The estimated total number of respondents per FY starting 2021 is 800 respondents. The estimated total annual burden hours starting FY 2021 is 200 hours.

Type of Respondent: The survey will be conducted annually, and survey respondents will consist of Medicare beneficiaries and non-beneficiaries (i.e., providers, suppliers) who participated in a hearing before an OMHA ALJ. OMHA will draw a representative, nonredundant sample of appellants whose cases have been closed in the last 6 months.

Estimated Annualized Burden Hour Table
Type of respondent | Number of respondents | Number of responses per respondent | Average burden per response (in hours) | Total burden hours
Beneficiaries | 400 | 1 | 15/60 | 100
Non-Beneficiaries | 400 | 1 | 15/60 | 100
Total | 800 | 1 | 15/60 | 200

Sherrette A. Funn,
Paperwork Reduction Act Reports Clearance Officer, Office of the Secretary.

[FR Doc. 2021-10280 Filed 5-14-21; 8:45 am]

BILLING CODE 4150-46-P